DEPARTMENT OF TRANSPORTATION

Federal Aviation Administration

14 CFR Part 39

[Docket No. FAA-2010-0426; Directorate Identifier 2009-SW-34-AD]

RIN 2120-AA64

Airworthiness Directives; Eurocopter France (ECF) Model SA-365N1, AS-365N2, AS 365 N3, EC 155B, and EC155B1 Helicopters

AGENCY: Federal Aviation Administration (FAA), DOT.

ACTION: Notice of proposed rulemaking (NPRM).

SUMMARY: We propose to adopt a new airworthiness directive (AD) for the specified ECF model helicopters. This proposed AD results from a mandatory continuing airworthiness information (MCAI) AD issued by the European Aviation Safety Agency (EASA), which is the Technical Agent for the Member States of the European Community. The MCAI AD reports the separation and loss of a stainless steel ring (75 millimeter (mm) in diameter) from a tail rotor blade (blade) sleeve resulting in severe, high-frequency vibrations, which can lead to damage to the fenestron blades, loss of yaw control, and subsequent loss of control of the helicopter.

DATES: We must receive comments on this proposed AD by May 24, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this proposed AD from American Eurocopter Corporation, 2701 Forum Drive, Grand Prairie, TX 75053-4005, telephone (800) 232-0323, fax (972) 641-3710, or at http://www.eurocopter.com.

Examining the Docket: You may examine the AD docket on the Internet at http://www.regulations.gov or in person at the Docket Operations office between 9 a.m. and 5 p.m., Monday through Friday, except Federal holidays. The AD docket contains this proposed AD, the economic evaluation, any comments received, and other information. The street address for the Docket Operations Office (telephone (800) 647-5527) is stated in the ADDRESSES section of this proposal. Comments will be available in the AD docket shortly after receipt.

FOR FURTHER INFORMATION CONTACT: DOT/FAA Southwest Region, Gary Roach, ASW-111, Aviation Safety Engineer, Rotorcraft Directorate, Regulations and Guidance Group, 2601 Meacham Blvd, Fort Worth, Texas 76137, telephone (817) 222-5130, fax (817) 222-5961.

SUPPLEMENTARY INFORMATION:

Comments Invited

We invite you to send any written data, views, or arguments about this proposed AD. Send your comments to an address listed in the ADDRESSES section of this proposal. Include “Docket No. FAA-2010-0426; Directorate Identifier 2009-SW-34-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The EASA, which is the Technical Agent for the Member States of the European Community, has issued EASA AD No. 2006-0099, dated April 24, 2006, to correct an unsafe condition for the specified ECF model helicopters. EASA issued an AD following a case of separation and loss of a stainless steel ring (75 mm in diameter) from a blade sleeve resulting in severe, high-frequency vibrations, which can lead to damage to the fenestron blades, loss of yaw control, and subsequent loss of control of the helicopter.

You may obtain further information by examining the MCAI AD and any related service information in the AD docket.

Related Service Information

Eurocopter has issued Alert Service Bulletin No. 05A011 for the Model EC 155B and B1 helicopters and No. 05.00.49 for the Model SA-365N1, AS-365N2, and AS 365 N3 helicopters. Both service bulletins are dated March 1, 2006. The service information specifies checking the blade sleeve for slippage of the stainless steel ring (75 mm in diameter) and replacing the blade if the stainless steel ring has slipped. The actions described in the MCAI AD are intended to correct the unsafe condition identified in the service information.

FAA's Evaluation and Unsafe Condition Determination

These helicopters have been approved by the aviation authority of France and are approved for operation in the United States. Pursuant to our bilateral agreement with France, EASA, their Technical Agent, has notified us of the unsafe condition described in the MCAI AD. We are proposing this AD because we evaluated all information provided by EASA and determined the unsafe condition exists and is likely to exist or develop on other helicopters of these same type designs. This proposed AD would require:

• For the Model SA-365N1, AS-365N2, and AS 365 N3 helicopters, within 50 hours time-in-service (TIS), unless done previously, and thereafter at intervals not to exceed 10 hours TIS, inspect each blade of the fenestron tail rotor to determine whether there has been any outward slippage (toward the shroud) of the stainless steel ring that is around the sleeve of each blade where the blade enters the fenestron hub.

• For the Model EC 155B or B1 helicopters, within 50 hours time-in-service (TIS), unless done previously, and thereafter at intervals not to exceed 15 hours TIS, inspect each blade for slippage of the fenestron tail rotor to determine whether there has been any outward slippage (toward the shroud) of the stainless steel ring that is around the sleeve of each blade where the blade enters the fenestron hub.

• If the stainless steel ring has slipped outward, before further flight, replace the blade with an airworthy blade.

Differences Between This AD and the MCAI AD

We refer to flying hours as hours time-in-service. Also, we use “inspect” rather than “check” to describe the actions required by this AD. We use a different initial compliance time.

Costs of Compliance

We estimate that this proposed AD would affect about 33 helicopters of U.S. registry. We also estimate that it would take about 15 minutes per helicopter to inspect for slippage of the stainless steel ring of the blade sleeve. The average labor rate is $80 per work-hour. Based on these figures, we estimate the cost of the proposed AD on U.S. operators would be $660 assuming none of the blades would have to be replaced.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

We determined that this proposed AD would not have federalism implications under Executive Order 13132. This proposed AD would not have a substantial direct effect on the States, on the relationship between the national Government and the States, or on the distribution of power and responsibilities among the various levels of government.

Therefore, I certify this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Eurocopter France: Docket No. FAA-2010-0426; Directorate Identifier 2009-SW-34-AD.

Comments Due Date

(a) We must receive your comments by May 24, 2010.

Other Affected ADs

(b) None.

Applicability

(c) This AD applies to Model SA-365N1, AS-365N2, AS 365 N3, EC 155B, and EC155B1 helicopters, with a fenestron tail rotor blade (blade), part number 365A12-0060-01 or 365A12-0070-00, installed, certificated in any category.

Reason

(d) The mandatory continuing airworthiness information (MCAI) AD reports the separation and loss of a stainless steel ring (75 mm in diameter) from a blade sleeve resulting in severe, high-frequency vibrations, which can lead to damage to the fenestron blades, loss of yaw control, and subsequent loss of control of the helicopter.

Actions and Compliance

(e) Required as indicated:

(1) For the Model SA-365N1, AS-365N2, and AS 365 N3 helicopters, within 50 hours time-in-service (TIS), unless done previously, and thereafter at intervals not to exceed 10 hours TIS, inspect each blade of the fenestron tail rotor to determine whether there has been any outward slippage (toward the shroud) of the stainless steel ring that is around the sleeve of each blade where the blade enters the fenestron hub as depicted in Appendix 1 and by following the Accomplishment Instructions, paragraph 2.B.1., of Eurocopter Alert Service Bulletin No. 05.00.49, dated March 1, 2006.

(2) For the Model EC 155B or B1 helicopters, within 50 hours time-in-service (TIS), unless done previously, and thereafter at intervals not to exceed 15 hours TIS, inspect each blade of the fenestron tail rotor to determine whether there has been any outward slippage (toward the shroud) of the stainless steel ring that is around the sleeve of each blade where the blade enters the fenestron hub as depicted in Appendix 1 and by following paragraph 2.B.1., of Eurocopter Alert Service Bulletin No. 05A011, dated March 1, 2006.

(3) If the stainless steel ring has slipped outward, before further flight, replace the blade with an airworthy blade.

Differences Between This AD and the MCAI AD

(f) We refer to flying hours as hours time-in-service. Also, we use “inspect” rather than “check” to describe the action to be taken in the AD. We use a different initial compliance time.

Other Information

(g) Alternative Methods of Compliance (AMOCs): The Manager, Rotorcraft Directorate, Safety Management Group, Attn: DOT/FAA Southwest Region, Gary Roach, ASW-111, Aviation Safety Engineer, Regulations and Guidance Group, 2601 Meacham Blvd, Fort Worth, Texas 76137, telephone (817) 222-5130, fax (817) 222-5961, has the authority to approve AMOCs for this AD, if requested using the procedures found in 14 CFR 39.19.

Related Information

(h) European Aviation Safety Agency MCAI Airworthiness Directive No. 2006-0099, dated April 24, 2006, contains related information.

Joint Aircraft System/Component (JASC) Code

(i) The JASC Code is 6400: Tail Rotor.

Issued in Fort Worth, Texas, on April 14, 2010.
Mark R. Schilling,
Acting Manager, Rotorcraft Directorate, Aircraft Certification Service.

[FR Doc. 2010-9292 Filed 4-21-10; 8:45 am]

BILLING CODE 4910-13-P